DEPARTMENT OF COMMERCE

National Oceanic and Atmospheric Administration

[I.D. 033006F]

Mid-Atlantic Fishery Management Council; Public Meeting

AGENCY: National Marine Fisheries Service (NMFS), National Oceanic and Atmospheric Administration (NOAA), Commerce.

ACTION: Notice of public meetings.

SUMMARY: The Mid-Atlantic Fishery Management Council's (Council) Tilefish Monitoring Committee will hold a public meeting.

DATES: The meeting will be held on April 24, 2006, beginning at noon.

ADDRESSES: The meeting will be held at the Sheraton Providence Airport Hotel, 1850 Post Road, Warwick, RI 02886; telephone: (401) 738-4000.

Council address: Mid-Atlantic Fishery Management Council, Room 2115, 300 S. New Street, Dover, DE 19904.

FOR FURTHER INFORMATION CONTACT: Daniel T. Furlong, Executive Director, Mid-Atlantic Fishery Management Council; telephone: (302) 674-2331, ext. 19.

SUPPLEMENTARY INFORMATION: The purpose of the meeting is to recommend the 2006/07 tilefish quota.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Jan Saunders at (302) 674-2331 ext. 18, at the Council office at least 5 days prior to the meeting date.

Dated: April 3, 2006.
Tracey L. Thompson,
Acting Director, Office of Sustainable Fisheries, National Marine Fisheries Service.

[FR Doc. E6-4980 Filed 4-5-06; 8:45 am]

BILLING CODE 3510-22-S